DEPARTMENT OF ENERGY

Federal Energy Regulatory Commission

[Project No. 14861-002]

FFP Project 101, LLC; Notice of Tribal Consultation Meeting

a. Project Name and Number: Goldendale Energy Storage Project No. 14861-002.

b. Applicant: FFP Project 101, LLC.

c. Date and Time of Meeting: Wednesday, December 13, 2023 at 10:00 a.m. Pacific Standard Time.

d. Meeting Location: Nixyáawii Governance Center (conference room L101A), 46411 Timine Way, Pendleton, Oregon.

e. FERC Contact: Michael Tust, (202) 502-6522, michael.tust@ferc.gov.

f. Purpose of Meeting: Commission staff will hold a meeting with representatives from the Confederated Tribes of the Umatilla Indian Reservation (Umatilla Tribes) to discuss the Umatilla Tribes' concerns regarding the proposed Goldendale Energy Storage Project.

g. Intervenors in the referenced proceeding may attend the meeting; however, participation will be limited to representatives of the Umatilla Tribes and Commission staff. If Umatilla Tribal representatives decide to disclose information about a specific location which could create a risk or harm to an archaeological site or Native American cultural resource, attendees other than Tribal representatives and Commission staff will be excused for that portion of the meeting and can return to the meeting after such information is disclosed. A summary of the meeting will be placed in the public record of this proceeding. As appropriate, the meeting summary will include both a public, redacted version that excludes any information about the specific location of the archeological site or Native American cultural resource and an unredacted privileged version. Intervenors planning to attend the meeting should notify Michael Tust at (202) 502-6522 or michael.tust@ferc.gov by Friday, December 8, 2023.

Dated: November 29, 2023.
Kimberly D. Bose,
Secretary.

[FR Doc. 2023-26647 Filed 12-4-23; 8:45 am]

BILLING CODE 6717-01-P